DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Coconino (FEMA Docket No.: B-7467) | City of Flagstaff (05-09-1103P) | December 8, 2005; December 15, 2005; Arizona Daily Sun | The Honorable Joseph C. Donaldson, Mayor, City of Flagstaff, 211 West Aspen Avenue, Flagstaff, Arizona 86001 | March 16, 2006 | 040020
Greenlee (FEMA Docket No.: B-7474) | Town of Clifton (06-09-B068P) | October 25, 2006; November 1, 2006; The Copper Era | The Honorable David McCullar, Mayor, Town of Clifton, P.O. Box 1415, Clifton, AZ 85533 | September 29, 2006 | 040035
Maricopa (FEMA Docket No.: B-7467) | Town of Gilbert (06-09-B885X) | June 29, 2006; July 6, 2006; Arizona Business Gazette | The Honorable Steve M. Berman, Mayor, Town of Gilbert, 50 West Civic Center Drive, Gilbert, Arizona 85296 | August 19, 2006 | 040044
Maricopa (FEMA Docket No.: B-7467) | City of Phoenix (06-09-B520P) | April 27, 2006; May 4, 2006; Arizona Business Gazette | The Honorable Phil Gordon, Mayor, City of Phoenix, 200 West Washington Street, 11th Floor, Phoenix, Arizona 85003-1611 | April 17, 2006 | 040051
Maricopa (FEMA Docket No.: B-7467) | Town of Queen Creek (06-09-B885X) | June 29, 2006; July 6, 2006; Arizona Business Gazette | The Honorable Wendy Feldman-Kerr, Mayor, Town of Queen Creek, 22350 South Ellsworth Road, Queen Creek, AZ 85242 | August 19, 2006 | 040132
Maricopa (FEMA Docket No.: B-7467) | Unincorporated areas of Maricopa County (05-09-0394P) | May 18, 2006; May 25, 2006; Arizona Business Gazette | The Honorable Max Wilson, Chairman, Maricopa County Board of Supervisors, 301 West Jefferson Street, 10th Floor, Phoenix, Arizona 85003 | April 27, 2006 | 040037
Maricopa (FEMA Docket No.: B-7467) | Unincorporated areas of Maricopa County (06-09-B885X) | June 29, 2006; July 6, 2006; Arizona Business Gazette | The Honorable Max Wilson, Chairman, Maricopa County Board of Supervisors, 301 West Jefferson Street, 10th Floor, Phoenix, Arizona 85003 | August 19, 2006 | 040037
Pima (FEMA Docket No.: B-7467) | City of Tucson (05-09-A090P) | March 30, 2006; April 6, 2006; The Daily Territorial | The Honorable Bob Walkup, Mayor, City of Tucson, P.O. Box 27210, Tucson, Arizona 85726 | July 6, 2006 | 040076
Pima (FEMA Docket No.: B-7467) | City of Tucson (05-09-A160P) | February 16, 2006; February 23, 2006; The Daily Territorial | The Honorable Bob Walkup, Mayor, City of Tucson, P.O. Box 27210, Tucson, Arizona 85726 | May 25, 2006 | 040076
Pima (FEMA Docket No.: B-7467) | Unincorporated areas of Pima County (05-09-0847P) | December 8, 2005; December 15, 2005; The Daily Territorial | The Honorable Sharon Bronson, Chair, Pima County Board of Supervisors, 130 West Congress, 11th Floor, Tucson, Arizona 85701 | November 28, 2005 | 040073
Pima (FEMA Docket No.: B-7467) | Unincorporated areas of Pima County (05-09-A090P) | March 30, 2006; April 6, 2006; The Daily Territorial | The Honorable Sharon Bronson, Chair, Pima County Board of Supervisors, 130 West Congress, 11th Floor, Tucson, Arizona 85701 | July 6, 2006 | 040073
Pima (FEMA Docket No.: B-7467) | Unincorporated areas of Pima County (05-09-A160P) | February 16, 2006; February 23, 2006; Daily Territorial | The Honorable Sharon Bronson, Chair, Pima County Board of Supervisors, 130 West Congress Street, 11th Floor, Tucson, Arizona 85701 | May 25, 2006 | 040073
Arkansas: Benton (FEMA Docket No.: B-7712) | City of Rogers (05-06-A137P) | January 3, 2007; January 10, 2007; Rogers Hometown News | The Honorable Steve Womack, Mayor, City of Rogers, 300 West Poplar Street, Rogers, AR 72756 | April 4, 2007 | 050013
California:
Amador (FEMA Docket No.: B-7474) | City of Jackson (06-09-B819P) | October 20, 2006; October 27, 2006; Amador Ledger Dispatch | The Honorable Al Nunes, Mayor, City of Jackson, 33 Broadway, Jackson, CA 95642 | January 26, 2007 | 060448
Riverside (FEMA Docket No.: B-7467) | City of San Jacinto (05-09-A244P) | February 16, 2006; February 23, 2006; The Press-Enterprise | The Honorable Dale Stubblefield, Mayor, City of San Jacinto, 201 East Main Street, San Jacinto, California 92583 | March 2, 2006 | 065056
Riverside (FEMA Docket No.: B-7467) | Unincorporated areas of Riverside County (05-09-A213P) | February 8, 2006; February 15, 2006; The Press-Enterprise | The Honorable Marion Ashley, Chairman, Riverside County Board of Supervisors, 4080 Lemon Street, Fifth Floor, Riverside, California 92501 | January 23, 2006 | 060245
San Bernardino (FEMA Docket No.: B-7712) | City of Barstow (06-09-B313P) | December 28, 2006; January 4, 2007; San Bernardino County Sun | The Honorable Lawrence E. Dale, Mayor, City of Barstow, 220 East Mountain View Street, Suite A, Barstow, CA 92311 | November 30, 2006 | 060271
San Bernardino (FEMA Docket No.: B-7712) | Unincorporated areas of San Bernardino County (06-09-B313P) | December 28, 2006; January 4, 2007; San Bernardino County Sun | The Honorable Bill Postmus, Chairman, San Bernardino County Board of Supervisors, 385 North Arrowhead Avenue, 3rd Floor, San Bernardino, CA 92415 | November 30, 2006 | 060270
San Diego (FEMA Docket No.: B-7467) | City of San Diego (06-09-B001P) | March 16, 2006; March 23, 2006; San Diego Daily Transcript | The Honorable Jerry Sanders, Mayor, City of San Diego, 202 C Street, 11th Floor, San Diego, California 92101 | June 22, 2006 | 060295
San Diego (FEMA Docket No.: B-7467) | City of San Diego (06-09-B048P) | May 18, 2006; May 25, 2006; San Diego Daily Transcript | The Honorable Jerry Sanders, Mayor, City of San Diego, 202 C Street, 11th Floor, San Diego, California 92101 | April 28, 2006 | 060295
San Diego (FEMA Docket No.: B-7467) | Unincorporated areas of San Diego County (06-09-BB14P) | August 3, 2006; August 10, 2006; San Diego Daily Transcript | The Honorable Bill Horn, Chairman, San Diego County Board of Supervisors, 1600 Pacific Highway, San Diego, California 92123 | November 9, 2006 | 060284
San Luis Obispo (FEMA Docket No.: B-7703) | City of Arroyo Grande (06-09-BA92P) | November 22, 2006; November 29, 2006; The Tribune | The Honorable Tony M. Ferrara, Mayor, City of Arroyo Grande, 215 East Branch Street, Arroyo Grande, CA 93420 | February 28, 2007 | 060305
Santa Clara (FEMA Docket No.: B-7467) | City of San Jose (06-09-B378P) | July 19, 2006; July 26, 2006; San Jose Mercury News | The Honorable Ron Gonzales, Mayor, City of San Jose, 200 East Santa Clara Street, San Jose, California 95113 | October 25, 2006 | 060349
Santa Clara (FEMA Docket No.: B-7467) | City of Santa Clara (06-09-B378P) | July 19, 2006; July 26, 2006; San Jose Mercury News | The Honorable Patricia Mahan, Mayor, City of Santa Clara, 1500 Warburton Avenue, Santa Clara, California 95050 | October 25, 2006 | 060350
Shasta (FEMA Docket No.: B-7712) | Unincorporated areas of Shasta County (06-09-BB09P) | November 9, 2006; November 16, 2006; Redding Record Searchlight | The Honorable Patricia A. “Trish” Clarke, Chairman, Shasta County Board of Supervisors, 1450 Court Street, Suite 308 B, Redding, CA 96001 | October 31, 2006 | 060358
Colorado:
Arapahoe (FEMA Docket No.: B-7712) | City of Centennial (06-08-B400P) | December 28, 2006; January 4, 2007; The Littleton Independent | The Honorable Randy Pye, Mayor, City of Centennial, City of Centennial Office, 12503 East Euclid Drive, Suite 200, Centennial, CO 80111 | April 5, 2007 | 080315
El Paso (FEMA Docket No.: B-7712) | City of Colorado Springs (05-08-0608P) | November 22, 2006; November 29, 2006; El Paso County Advertiser and News | The Honorable Lionel Rivera, Mayor, City of Colorado Springs, P.O. Box 1575, Colorado Springs, CO 80901 | October 25, 2006 | 080060
Jefferson (FEMA Docket No.: B-7467) | City of Arvada (05-08-0531P) | June 1, 2006; June 8, 2006; The Golden Transcript | The Honorable Ken Fellman, Mayor, City of Arvada, 8101 Ralston Road, Arvada, Colorado 80002 | September 7, 2006 | 085072
Jefferson (FEMA Docket No.: B-7467) | City of Golden (06-08-A676P) | April 20, 2006; April 27, 2006; The Golden Transcript | The Honorable Charles J. Baroch, Mayor, City of Golden, 701 Ridge Road, Golden, Colorado 80403 | July 27, 2006 | 080090
Jefferson (FEMA Docket No.: B-7474) | City of Lakewood (06-08-B318P) | November 9, 2006; November 16, 2006; The Golden Transcript | The Honorable Steve Burkholder, Mayor, City of Lakewood, Lakewood Civic Center South, 480 South Allison Parkway, Lakewood, CO 80226 | February 15, 2007 | 085075
Jefferson (FEMA Docket No.: B-7467) | Unincorporated areas of Jefferson County (06-08-0531P) | June 1, 2006; June 8, 2006; The Golden Transcript | The Honorable Jim Congrove, Chairman, Jefferson County Board of Commissioners, 100 Jefferson County Parkway, Golden, Colorado 80419 | September 7, 2006 | 080087
Larimer (FEMA Docket No.: B-7467) | Unincorporated Areas of Larimer County (05-08-0587P) | April 20, 2006; April 27, 2006; Fort Collins Coloradoan | The Honorable Kathay Rennels, Chair, Larimer County Board of Commissioners, P.O. Box 1190, Fort Collins, Colorado 80522 | July 27, 2006 | 080101
Larimer (FEMA Docket No.: B-7467) | Town of Wellington (05-08-0379P) | December 22, 2005; December 29, 2005; Fort Collins Coloradoan | The Honorable Larry Noel, Mayor, Town of Wellington, P.O. Box 127, Wellington, Colorado 80549 | March 30, 2006 | 080104
Jefferson (FEMA Docket No.: B-7467) | City of Westminster (04-08-0439P) | December 7, 2005; December 14, 2005; Brighton Standard Blade | The Honorable Nancy McNally, Mayor, City of Westminster, 4800 West 92nd Avenue, Westminster, Colorado 80031 | November 30, 2005 | 080008
Summit (FEMA Docket No.: B-7467) | Unincorporated Areas of Summit County (05-08-0618P) | June 16, 2006; June 23, 2006; Summit County Journal | The Honorable Tom Long, Chairman, Summit County Board of Commissioners, P.O. Box 68, Breckenridge, Colorado 80424 | May 17, 2006 | 080290
Weld (FEMA Docket No.: B-7467) | Town of Erie (05-08-0364P) | November 2, 2005; November 9, 2005; Erie Review | The Honorable Andrew J. Moore, Mayor, Town of Erie, P.O. Box 750, Erie, Colorado, 80516-0100 | February 8, 2006 | 080181
Weld (FEMA Docket No.: B-7467) | Town of Pierce (06-08-B003P) | January 19, 2005; January 26, 2005; The Greeley Republican | The Honorable Craig Cleveland, Mayor, Town of Pierce, P.O. Box 57, Pierce, Colorado, 80650 | April 27, 2006 | 080189
Weld (FEMA Docket No.: B-7467) | Town of Severance (05-08-0378P) | March 16, 2006; March 23, 2006; The Greeley Republican | The Honorable Pierre DeMilt, Mayor, Town of Severance, P.O. Box 122, Severance, Colorado 80546 | June 22, 2006 | 080317
Weld (FEMA Docket No.: B-7467) | Unincorporated areas of Weld County (06-08-B003P) | January 19, 2005; January 26, 2005; Greeley Tribune | The Honorable William Jerke, Chairman, Weld County Board of Commissioners, P.O. Box 758, Greeley, Colorado 80632 | April 27, 2006 | 080266
Georgia: Walton (FEMA Docket No.: B-7474) | Unincorporated areas of Walton County (05-04-A009P) | October 18, 2006; October 25, 2006; The Walton Tribune | The Honorable Kevin W. Little, Chairman, Walton County Board of Commissioners, 303 South Hammond Drive, Monroe, GA 30655 | September 25, 2006 | 130185
Hawaii:
Hawaii (FEMA Docket No.: B-7712) | Unincorporated areas of Hawaii County (06-09-B047P) | November 2, 2006; November 9, 2006; Hawaii Tribune Herald | The Honorable Harry Kim, Mayor, Hawaii County, 25 Aupuni Street, Room 215, Hilo, HI 96720 | October 16, 2006 | 155166
Maui (FEMA Docket No.: B-7467) | Unincorporated areas of Maui County (06-09-A607P) | May 25, 2006; June 1, 2006; Maui News | The Honorable Alan M. Arakawa, Mayor, County of Maui, 200 South High Street, Wailuku, Hawaii 96793 | May 10, 2006 | 150003
Kansas: Shawnee (FEMA Docket No.: B-7712) | City of Topeka (06-07-B029P) | November 16, 2006; November 23, 2006; Topeka Capital Journal | The Honorable William W. Bunten, Mayor, City of Topeka, City Hall, 215 Southeast 7th Street, Topeka, KS 66603-3914 | November 30, 2006 | 205187
Massachusetts: Plymouth (FEMA Docket No.: B-7474) | Town of Scituate (06-01-B143P) | September 14, 2006; September 21, 2006; The Patriot Ledger | Mr. Richard Agnew, Town Administrator, Town of Scituate, Scituate Town Hall, 600 Chief Justice Cushing Highway, Scituate, MA 02066 | August 23, 2006 | 250282
Montana: Gallatin (FEMA Docket No.: B-7467) | City of Three Forks (05-08-A579P) | March 23, 2006; March 30, 2006; Bozeman Daily Chronicle | The Honorable Gene Townsend, Mayor, City of Three Forks, P.O. Box 187, Three Forks, Montana 59752 | June 29, 2006 | 300029
New Mexico: Bernalillo (FEMA Docket No.: B-7466) | City of Albuquerque (06-06-A653P) | February 9, 2006; February 16, 2006; The Albuquerque Journal | The Honorable Martin Chavez, Mayor, City of Albuquerque, P.O. Box 1293, Albuquerque, New Mexico 87103 | January 30, 2006 | 350002
Ohio:
Fairfield (FEMA Docket No.: B-7466) | City of Reynoldsburg (05-05-1178P) | June 29, 2006; July 6, 2006; Lancaster Eagle-Gazette | The Honorable Ronald L. McPherson, Mayor, City of Reynoldsburg, 7232 East Main Street, Reynoldsburg, Ohio 43068 | October 5, 2006 | 390177
Lorain (FEMA Docket No.: B-7712) | City of Amherst (05-05-A229P) | November 30, 2006; December 7, 2006; The Chronicle Telegram | The Honorable David A. Taylor, Mayor, City of Amherst, 480 Park Avenue, Amherst, OH 44001 | March 8, 2007 | 390347
Oklahoma:
Oklahoma (FEMA Docket No.: B-7474) | City of Edmond (06-06-B417P) | October 19, 2006; October 26, 2006; The Edmond Sun | The Honorable Saundra G. Naifeh, Mayor, City of Edmond, P.O. Box 2970, Edmond, OK 73083-2970 | January 25, 2007 | 400252
Oklahoma (FEMA Docket No.: B-7466) | City of Oklahoma City (05-06-0453P) | January 12, 2006; January 19, 2006; Oklahoma Journal Record | The Honorable Mick Cornett, Mayor, City of Oklahoma City, City Hall, 200 North Walker Street, Third Floor, Oklahoma City, Oklahoma 73102 | December 29, 2005 | 405378
Tulsa (FEMA Docket No.: B-7466) | City of Tulsa (05-06-A430P) | April 20, 2006; April 27, 2006; Tulsa World | The Honorable Bill Lafortune, Mayor, City of Tulsa, 200 Civic Center, 11th Floor, Room 532, Tulsa, Oklahoma 74103 | March 31, 2006 | 405381
Pennsylvania:
Chester (FEMA Docket No.: B-7474) | Township of Sadsbury (06-03-B160P) | October 19, 2006; October 26, 2006; Daily Local News | The Honorable Dale Hensel, Chairman, Board of Supervisors, Sadsbury Township, 6 Ramsey Alley, P.O. Box 261, Sadsburyville, PA 19369 | September 29, 2006 | 421488
York (FEMA Docket No.: B-7466) | York Township (06-03-B333P) | August 24, 2006; August 31, 2006; York Dispatch | The Honorable Phillip W. Briddell, President, York Township Board of Commissioners, 335 Hill-N-Dale Drive, York, Pennsylvania 17403 | July 31, 2006 | 421032
Rhode Island: Bristol (FEMA Docket No.: B-7712) | Town of Bristol (05-01-0763P) | November 9, 2006; November 16, 2006; Bristol Phoenix | The Honorable Diane C. Mederos, Mayor, Town of Bristol, Town Hall, 10 Court Street, Bristol, RI 02809 | October 17, 2006 | 445393
South Carolina: Sumter (FEMA Docket No.: B-7466) | Unincorporated areas of Sumter County (04-04-B134P) | June 19, 2006; June 22, 2006; The Item | Mr. William T. Noonan, Sumter County Administrator, 13 East Canal Street, Sumter, South Carolina 29150 | September 21, 2006 | 450182
Tennessee:
Davidson (FEMA Docket No.: B-7466) | Metropolitan Government of Nashville and Davidson County (05-04-A471P) | June 15, 2006; June 22, 2006; Nashville Record | The Honorable Bill Purcell, Mayor, Metropolitan Government of Nashville and Davidson County, 225 Polk Avenue, Nashville, Tennessee 37203 | September 21, 2006 | 470040
Williamson (FEMA Docket No.: B-7466) | City of Brentwood (06-04-B110P) | June 22, 2006; June 29, 2006; The Tennessean | The Honorable Brian Joe Sweeney, Mayor, City of Brentwood, P.O. Box 788, Brentwood, Tennessee 37024-0788 | September 27, 2006 | 470205
Texas:
Collin (FEMA Docket No.: B-7466) | City of McKinney (05-06-0127P) | February 16, 2006; February 23, 2006; McKinney Courier Gazette | The Honorable Bill Whitfield, Mayor, City of McKinney, 222 North Tennessee, P.O. Box 517, McKinney, Texas 75069 | May 25, 2006 | 480135
Collin (FEMA Docket No.: B-7466) | City of Plano (06-06-B374P) | August 16, 2006; August 23, 2006; Plano Star Courier | The Honorable Pat Evans, Mayor, City of Plano, 1520 Avenue K, Suite 300, Plano, Texas 75086-0358 | November 22, 2006 | 480140
Dallas (FEMA Docket No.: B-7466) | City of Dallas (05-06-0199P) | December 8, 2005; December 15, 2005; The Daily Commercial Record | The Honorable Laura Miller, Mayor, City of Dallas, Dallas City Hall, 1500 Marilla Street, Room 5EN, Dallas, Texas 75201-6390 | March 16, 2006 | 480171
Dallas (FEMA Docket No.: B-7466) | City of Garland (06-06-B168P) | August 17, 2006; August 24, 2006; The Daily Commercial Record | The Honorable Bob Day, Mayor, City of Garland, P.O. Box 469002, Garland, Texas 75046-9002 | November 23, 2006 | 485471
Hays (FEMA Docket No.: B-7466) | Unincorporated areas of Hays County (06-06-B006P) | August 17, 2006; August 24, 2006; Hays County Free Press | The Honorable Jim Powers, Hays County Judge, 111 East San Antonio Street, Suite 300, San Marcos, Texas 78666 | November 23, 2006 | 480321
Hidalgo (FEMA Docket No.: B-7466) | City of McAllen (05-06-1607P) | March 9, 2006; March 16, 2006; The Monitor | The Honorable Richard F. Cortez, Mayor, City of McAllen, 1300 Houston Avenue, McAllen, Texas 78501 | February 21, 2006 | 480343
Tarrant (FEMA Docket No.: B-7474) | City of Fort Worth (06-06-BB25P) | October 19, 2006; October 26, 2006; Fort Worth Star-Telegram | The Honorable Michael J. Moncrief, Mayor, City of Fort Worth, 1000 Throckmorton Street, Fort Worth, Texas 76102 | September 28, 2006 | 480596
Tarrant (FEMA Docket No.: B-7474) | Unincorporated areas of Tarrant County (06-06-BB25P) | October 19, 2006; October 26, 2006; Fort Worth Star-Telegram | The Honorable Tom Vandergriff, Tarrant County Judge, Tarrant County Commissioners Court, 100 East Weatherford Street, Room 502A, Fort Worth, TX 76196 | September 28, 2006 | 480582
Wyoming: Teton (FEMA Docket No.: B-7466) | Unincorporated areas of Teton County (05-08-0317P) | March 29, 2006; April 5, 2006; Jackson Hole News | The Honorable Leland Christensen, Chair, Teton County Board of Commissioners, P.O. Box 3594, Jackson, Wyoming 83001 | March 15, 2006 | 560094

(Catalog of Federal Domestic Assistance No. 83.100, “Flood Insurance.”)

Dated: May 11, 2007.
David I. Maurstad,
Federal Insurance Administrator of the National Flood Insurance Program, Federal Emergency Management Agency, Department of Homeland Security.

[FR Doc. E7-9785 Filed 5-21-07; 8:45 am]

BILLING CODE 9110-12-P